DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 14, 2009.

Interested persons are invited to submit written comments regarding the subject matter of the investigations to the Director, Division of Trade Adjustment Assistance, at the address shown below, not later than September 14, 2009.

The petitions filed in this case are available for inspection at the Division of Trade Adjustment Assistance, Employment and Training Administration, U.S. Department of Labor, Room N-5428, 200 Constitution Avenue, NW., Washington, DC 20210.

Signed at Washington, DC, this 20th day of August 2009.
Linda G. Poole,
Certifying Officer, Division of Trade Adjustment Assistance.

Appendix
[TAA petitions instituted between 6/22/09 and 6/26/09]
TA-W | Subject firm (petitioners) | Location | Date of institution | Date of petition
71323 | Sanlo, Inc. (Comp) | Michigan City, IN | 06/22/09 | 06/19/09
71324 | Chart Energy and Chemical, Inc. (IAMAW) | La Crosse, WI | 06/22/09 | 06/19/09
71325 | 29-J Commerce Way (Smart Parts) (Wkrs) | Totowa, NJ | 06/22/09 | 05/22/09
71326 | International Business Machines Corporation (Wkrs) | Boulder, CO | 06/22/09 | 06/19/09
71327 | ArcelorMittal McNessen (Union) | Monessen, PA | 06/22/09 | 05/31/09
71328 | Dental Office Management (Comp) | El Segundo, CA | 06/22/09 | 06/11/09
71329 | General Motors Corporation (UAW) | Mansfield, OH | 06/22/09 | 06/15/09
71330 | Siemen Building Technologies (State) | Florham Park, NJ | 06/22/09 | 06/22/09
71331 | Eos Airlines, Inc. (Wkrs) | Purchase, NY | 06/22/09 | 05/18/09
71332 | Pace Industries, LLC (Comp) | Fayetteville, AR | 06/22/09 | 06/12/09
71333 | Array Marketing (AFLCIO) | Chattanooga, TN | 06/22/09 | 06/22/09
71334 | Saint-Gobain Crystals (Comp) | Washougal, WA | 06/22/09 | 06/19/09
71335 | Suburban Precision Mold Company, Inc. (Wkrs) | Meadville, PA | 06/22/09 | 06/11/09
71336 | Burke Industrial Supply, Inc. (Comp) | Morganton, NC | 06/22/09 | 06/22/09
71337A | Craftex Mills, Inc. (Wkrs) | Auburn, PA | 06/22/09 | 06/18/09
71337 | Craftex Mills, Inc. of Penna. (Wkrs) | Chalfont, PA | 06/22/09 | 06/18/09
71338 | Extang Corporation (Wkrs) | Sandusky, MI | 06/22/09 | 06/22/09
71339 | A.R.E. Manufacturing, Inc. (Comp) | Newberg, OR | 06/22/09 | 03/16/09
71340 | Bowne of Detroit (Wkrs) | Detroit, MI | 06/22/09 | 06/09/09
71341 | Chart Energy and Chemical, Inc. (IAMAW) | La Crosse, WI | 06/22/09 | 06/19/09
71342 | ArborCraft, LLC (Rep) | Johnson City, TN | 06/22/09 | 06/19/09
71343 | Metso Minerals, Inc. (Wkrs) | Columbia, SC | 06/22/09 | 06/22/09
71344 | B.W. Elliott Manufacturing Co., LLC (Comp) | Binghamton, NY | 06/22/09 | 06/19/09
71345 | Mollertech, LLC (Wkrs) | Shelby Township, MI | 06/22/09 | 06/22/09
71346 | Martin Plant Services A Division of MSCO (Comp) | Sheffield, AL | 06/22/09 | 06/19/09
71347 | Gulford Mills (Wkrs) | Greensboro, NC | 06/23/09 | 06/05/09
71348 | Rocky Fashion, Inc. (Wkrs) | New York, NY | 06/23/09 | 06/22/09
71349 | Kroeschell Operations, Inc. (Wkrs) | Arlington Heights, IL | 06/23/09 | 06/15/09
71350 | International Extrusion Corporation (Wkrs) | Alhambra, CA | 06/23/09 | 06/22/09
71351 | MeadWestvaco (Comp) | Louisa, VA | 06/23/09 | 06/22/09
71352 | Tooling Science (State) | Maple Grove, MN | 06/23/09 | 06/23/09
71353 | Albion Associates, Inc. (Wkrs) | High Point, NC | 06/23/09 | 06/02/09
71354 | Rodale, Inc. (Wkrs) | Emmaus, PA | 06/23/09 | 06/09/09
71355 | Hollingsworth and Vose Company (Comp) | Hawkinsville, GA | 06/23/09 | 06/10/09
71356 | Child Craft, LLC (Comp) | New Salisbury, IN | 06/23/09 | 06/19/09
71357 | Moyno, Inc. (UAW) | Springfield, OH | 06/23/09 | 06/15/09
71358 | Manpower, Inc. (Wkrs) | Milwaukee, WI | 06/23/09 | 06/16/09
71359 | Electrolux Major Appliance (State) | Anderson, SC | 06/23/09 | 06/08/09
71360 | Monarch Industries (State) | Waterbury, CT | 06/23/09 | 06/23/09
71361 | ZF Lemforder Corporation (Comp) | Brewer, ME | 06/23/09 | 06/22/09
71362 | A.R.E. Manufacturing, Inc. (Comp) | Newberg, OR | 06/23/09 | 05/23/09
71363 | Frank Chervan, Inc. (Comp) | Bedford, VA | 06/24/09 | 06/12/09
71364 | Maggy London Int'l Ltd/Production (Wkrs) | New York, NY | 06/24/09 | 06/12/09
71365 | Heartland Companies, Ltd (Wkrs) | Syracuse, NY | 06/24/09 | 06/11/09
71366 | Hewlett Packard (Wkrs) | Boise, ID | 06/24/09 | 05/20/09
71367 | Seigwork/Graphics Packaging (State) | Lawrenceburg, TN | 06/24/09 | 06/15/09
71368 | IAC Canton, LLC (USWA) | Canton, OH | 06/24/09 | 06/22/09
71369 | Ramsey Techonology (Wkrs) | Coon Rapids, MN | 06/24/09 | 06/23/09
71370 | Conmed Corporation (Comp) | Utica, NY | 06/24/09 | 06/22/09
71371 | Standard Lockout, LLC (Wkrs) | Westfield, IN | 06/24/09 | 06/22/09
71372 | Starcom MediaVest Group (State) | Detroit, MI | 06/24/09 | 06/15/09
71373 | IBM—Armonk (Comp) | Chicago, IL | 06/24/09 | 06/22/09
71374 | GM Warren Transmission (UAW) | Warren, MI | 06/24/09 | 06/16/09
71375 | AK Steel Mansfield Ohio Works (USW) | Mansfield, OH | 06/24/09 | 06/23/09
71376 | Johnstown Specialty Castings, Inc. (USW) | Johnstown, PA | 06/24/09 | 06/17/09
71377 | IBM—Southbury (State) | Southbury, CT | 06/24/09 | 06/22/09
71378 | Borg Warner Diversified Transmission Products, Inc. (Wkrs) | Muncie, IN | 06/24/09 | 06/22/09
71379 | General Motors Assembly Center (UAW) | Wentzville, MO | 06/24/09 | 06/23/09
71380 | Seagate Technology (State) | Shakopee, MN | 06/24/09 | 06/23/09
71381 | James Tower, Inc. (State) | North Mankato, MN | 06/24/09 | 06/23/09
71382 | Nortech International Systems/Division of Intercon 1 (State) | Baxter, MN | 06/24/09 | 06/23/09
71383 | Nortech International Systems Division of Aerospace Systems (State) | Wayzata, MN | 06/24/09 | 06/23/09
71384 | Nortech Systems/Division of Aerospace Systems, Fairmont (State) | St. Paul, MN | 06/24/09 | 06/23/09
71385 | Nortech International Systems (State) | Merrifield, MN | 06/24/09 | 06/23/09
71386 | LDS Test and Measurement, LLC (State) | Middleton, WI | 06/24/09 | 06/23/09
71387 | Kipe and Associates, Inc. (Comp) | Beaverton, OR | 06/24/09 | 05/18/09
71388 | Lucas Smith Automotive, Inc. (Wkrs) | Potosi, MO | 06/24/09 | 06/18/09
71389 | Ann Arbor Machine Company (Wkrs) | Chelsea, MI | 06/24/09 | 06/10/09
71390 | Whitley's Clothing, Inc. d/b/a Whitley Apparel Co. (Comp) | Dover, NC | 06/24/09 | 06/23/09
71391 | Aero Metric, Inc. (State) | Sheboygan, WI | 06/24/09 | 06/23/09
71392 | Donaldson Company (State) | Cresco, IA | 06/24/09 | 06/23/09
71393 | Ethan Allen Retail, Inc. (Wkrs) | Wexford, PA | 06/24/09 | 06/23/09
71394 | Cascade Structural Laminators (Wkrs) | Willamina, OR | 06/24/09 | 06/10/09
71395 | Star Tek, Inc. (Wkrs) | Lynchburg, VA | 06/25/09 | 06/24/09
71396 | Mat Nuwood (Comp) | Lenoir, NC | 06/25/09 | 06/24/09
71397 | Teredyne, Inc. (Wkrs) | Richardson, TX | 06/25/09 | 06/23/09
71398 | Yazaki North America (Wkrs) | Canton, MI | 06/25/09 | 06/04/09
71399 | IBM (Wkrs) | Endicott, NY | 06/25/09 | 06/23/09
71400 | Smart Apparel (US) Inc. (Wkrs) | Quakertown, PA | 06/25/09 | 06/23/09
71401 | Setco (IAM) | Paris, TN | 06/25/09 | 06/25/09
71402 | The Timkin company (Wkrs) | Randleman, NC | 06/25/09 | 06/23/09
71403 | Ethan Allen Operations, Inc. (State) | Beecher Falls, VT | 06/25/09 | 06/25/09
71404 | Ethan Allen Operations, Inc. (State) | Orleans, VT | 06/25/09 | 06/25/09
71405 | A. Schulman (IAMAW) | Bellevue, OH | 06/25/09 | 06/23/09
71406 | Weyerhaeuser NR Company (IAM) | Cosmopolis, WA | 06/25/09 | 06/12/09
71407 | Weyerhaeuser NR Company (IAM) | Pe Ell, WA | 06/25/09 | 06/12/09
71408 | Circuit City (Wkrs) | Marion, IL | 06/25/09 | 06/23/09
71409 | Emerson/McGill Manufacturing (IAMAW) | Valparaiso, IN | 06/25/09 | 06/24/09
71410 | Noble Metal Processing, Indiana, Inc. (Comp) | Butler, IN | 06/25/09 | 06/22/09
71411 | F and M Industries (State) | Thorofare, NJ | 06/25/09 | 06/23/09
71412 | HTT Inc. (State) | Sheboygan Falls, WI | 06/25/09 | 06/24/09
71413 | Crystal Employment Services (Comp) | Madison Heights, MI | 06/26/09 | 06/25/09
71414 | TaTa Technologies (Wkrs) | Novi, MI | 06/26/09 | 06/25/09
71415 | Sealy Mattress Company (Comp) | Clarion, PA | 06/26/09 | 06/24/09
71416 | Kennametal, Inc. (State) | Latrobe, PA | 06/26/09 | 06/25/09
71417 | Liberty Manufacturing Company (Comp) | Portage, MI | 06/26/09 | 06/25/09
71418 | Thermagon Inc. dba Laird Technologies (Rep) | Cleveland, OH | 06/26/09 | 06/22/09
71419 | USS Clairton Coke Works (USW) | Clairton, PA | 06/26/09 | 06/24/09
71420 | Business Technology Services, Inc. (Comp) | King of Prussia, PA | 06/26/09 | 06/16/09
71421 | Trialon Corporation (Wkrs) | Kokomo, IN | 06/26/09 | 06/17/09
71422 | Texas Petrochemicals, LLC (Comp) | Houston, TX | 06/26/09 | 06/26/09
71423 | JBT Corporation, Automated Systems (Wkrs) | Chalfont, PA | 06/26/09 | 06/24/09
71424 | Sumco Phoenix Corporation—Cincinnati (Comp) | Maineville, OH | 06/26/09 | 06/23/09
71425 | US Steel Corp—Fairfield Works (USW) | Fairfield, AL | 06/26/09 | 06/24/09
71426 | Magna Seating (UAW) | Lordstown, OH | 06/26/09 | 06/25/09
71427 | Modern Industries, Inc. (Comp) | Erie, PA | 06/26/09 | 06/26/09
71428 | Tungfat Gmt Fty (Wkrs) | San Francisco, CA | 06/26/09 | 06/12/09
71429 | Teradyne, Inc. (Wkrs) | Richardson, TX | 06/26/09 | 06/23/09
71430 | Peddinghaus Corporation (Wkrs) | Bradley, IL | 06/26/09 | 06/22/09
71431 | Sealing Products Manufacturing, LLC (UAW) | Danville, KY | 06/26/09 | 06/24/09
71432 | Baxter Healthcare Corporation (Wkrs) | Mountain Home, AR | 06/26/09 | 06/25/09
71433 | Syncreon Logistics Automotives (Wkrs) | Belvidere, IL | 06/26/09 | 06/16/09
71434 | Eramet Marietta, Inc. (Comp) | Marietta, OH | 06/26/09 | 06/12/09
71435 | Carrier Corporation (Wkrs) | Carrollton, TX | 06/26/09 | 06/24/09
71436 | Fortis Plastics, LLC (Wkrs) | Booneville, MS | 06/26/09 | 06/25/09
71437 | Imperial Fabricating Company (Wkrs) | Chehalis, WA | 06/26/09 | 06/23/09

[FR Doc. E9-21160 Filed 9-1-09; 8:45 am]

BILLING CODE 4510-FN-P